DEPARTMENT OF ENERGY

Federal Energy Regulatory Commission

[Project No. 13392-000]

Lock+™ Hydro Friends Fund II, LLC; Notice of Preliminary Permit Application Accepted for Filing and Soliciting Comment, Motions To Intervene, and Competing Applications

September 30, 2009.

On March 6, 2009, Lock+™ Hydro Friends Fund II, LLC filed an application, pursuant to section 4(f) of the Federal Power Act, proposing to study the feasibility of the Mississippi River Lock and Dam No. 9 Water Power Project (Gumby Project), to be located on the Mississippi River in Allamakee County, Iowa, and Crawford, Wisconsin, and near the town of Lynxville, WI.

The proposed Lock & Dam 9 Project would be integral with: (1) The existing U.S. Army Corps of Engineers Lock & Dam No. 9 comprised of an 811-foot-long gated dam section with 5 roller gates and 8 tainter gates, and a 600 foot-long lock, and; (2) an existing 17-mile-long reservoir extending from River Mile 648 to River Mile 679 at a normal pool elevation of 620.0 feet mean sea level.

The proposed project would consist of: (1) Seven generating units and installed in a new door installed in the auxiliary lock with a total capacity of 4,963; and (2) a new 1,000-foot-long, 36.7-kilovolt transmission line connected to an existing above ground local distribution system. The project would have an estimated average annual generation of 41.3 gigawatt-hours.

Applicant Contact: Mr. Wayne F. Krouse, Hydro Friends Fund II LLC, 5090 Richmond Avenue #390, Houston, TX 77056, phone (877) 556-6566 x709.

FERC Contact: Michael Spencer, (202) 502-6093.

Deadline for filing comments, motions to intervene, competing applications (without notices of intent), or notices of intent to file competing applications: 60 days from the issuance of this notice. Comments, motions to intervene, notices of intent, and competing applications may be filed electronically via the Internet. See 18 CFR 385.2001(a)(1)(iii) and the instructions on the Commission's Web site under the “e-Filing” link. If unable to be filed electronically, documents may be paper-filed. To paper-file, an original and eight copies should be mailed to: Kimberly D. Bose, Secretary, Federal Energy Regulatory Commission, 888 First Street, NE., Washington, DC 20426. For more information on how to submit these types of filings please go to the Commission's Web site located at http://www.ferc.gov/filing-comments.asp. More information about this project can be viewed or printed on the “eLibrary” link of Commission's Web site at: http//www.ferc.gov/docs-filing/elibrary.asp. Enter the docket number (P-13392) in the docket number field to access the document. For assistance, call toll-free 1-866-208-3372.

Kimberly D. Bose,
Secretary.

[FR Doc. E9-24126 Filed 10-6-09; 8:45 am]

BILLING CODE 6717-01-P